DEPARTMENT OF COMMERCE

Census Bureau

Submission for OMB Review; Comment Request

The Department of Commerce will submit to the Office of Management and Budget (OMB) for clearance the following proposal for collection of information under the provisions of the Paperwork Reduction Act.

Agency: U.S. Census Bureau.

Title: 2021 Government Units Survey.

OMB Control Number: 0607-0930.

Form Number(s): The GUS will utilize a secure, electronic collection instrument and have four paths based on the type of government.

Type of Request: Reinstatement, with change.

Number of Respondents: 43,454.

Average Hours per Response: 15 minutes.

Burden Hours: 10,864.

Needs and Uses: This information request covers the 2021 Government Units Survey (GUS), which is the first component mailed for the 2022 Census of Governments. The Census Bureau will use information from the 2021 GUS to update its universe list of public sector entities prior to mailing the other Census of Governments components. Each of the estimated 43,454 local governments to be contacted, including independent school districts, will receive login information to complete the questionnaire online. Respondents are asked to verify or correct the name and mailing address of the government and answer up to seven questions to complete the survey. Respondents will skip questions depending on the type of government.

The 2021 GUS will target townships in 14 states, special districts in 40 states, and all independent school districts and educational service authorities (ESA). The scope for 2021 GUS collection is scaled back in comparison to the 2016 GUS collection operation. For greater efficiency, the 2021 GUS seeks information only from government units for which it is difficult to collect this information via other methods, such as internet research. The 2021 GUS consists predominately of yes/no type questions designed to determine whether a government unit is in operation and verify contact information. Other questions collect information about the government unit's function, legal organization, and other characteristics. This set of questions consists of checkbox and drop-down menu selections.

The GUS serves multiple purposes. The GUS is a direct means to obtain descriptive information on basic characteristics of governments; to identify and delete dissolved units on the Census Bureau universe frame; to identify duplicate units and changes to hierarchal structure; to update and verify government unit mailing addresses and contacts; and to update school unit information on the universe frame for other public sector surveys at the Census Bureau that reference this universe. In addition, the 2021 GUS provides critical information needed to maintain the frame from which all public sector surveys are drawn. The GUS is particularly beneficial for identifying smaller units that have not been selected in an annual survey conducted in non-census years. GUS is also beneficial in identifying changes to the universe of special district governments that experience substantial change in a five-year period.

In addition, federal legislation relevant to the American workforce, the Fair Labor Standards Act (FLSA) and the Family Medical Leave Act, refer to the list of governments the Census Bureau maintains for purposes of administering provisions of these laws. The Bureau of Justice Statistics maintains an interest in the list of active governments and their activities for purposes of administering grant programs. The Bureau of Economic Analysis (BEA) uses products from the Census of Governments including the counts of state and local governments, and state and local government employment and payroll data. BEA also uses revenue, expenditures, debt, and financial assets data from the Census of Governments for principal inputs to the local government portion of their Gross Domestic Product publication. Users from academia, research organizations, governments, public interest groups, and various businesses provide evidence of their interest through requests for information and requests for assistance in accessing government universe information available on the Census Bureau's internet website.

Affected Public: State, local or Tribal governments.

Frequency: One time.

Respondent's Obligation: Voluntary.

Legal Authority: Title 13 U.S.C., Sections 161 and 193.

This information collection request may be viewed at www.reginfo.gov. Follow the instructions to view Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0930.

Sheleen Dumas,
Department PRA Clearance Officer, Office of the Chief Information Officer, Commerce Department.

[FR Doc. 2020-10657 Filed 5-18-20; 8:45 am]

BILLING CODE 3510-07-P